DEPARTMENT OF HEALTH AND HUMAN SERVICES

Centers for Medicare & Medicaid Services

[CMS-2220-N]

Medicaid Program; Meeting of the Medicaid Commission—August 17-18, 2005

AGENCY: Centers for Medicare & Medicaid Services (CMS), HHS.

ACTION: Notice of meeting.

SUMMARY: This notice announces a public meeting of the Medicaid Commission. Notice of this meeting is given under the Federal Advisory Committee Act (5 U.S.C. App. 2, section 10(a)(1) and (a)(2)). The Medicaid Commission will advise the Secretary on ways to modernize the Medicaid program so that it can provide high-quality health care to its beneficiaries in a financially sustainable way.

DATES: The Meeting: August 17-18, 2005. The meeting will begin at 9 a.m. each day.

Special Accommodations: Persons attending the meeting who are hearing or visually impaired, or have a condition that requires special assistance or accommodations, are asked to notify the Executive Secretary by August 9, 2005 (see FOR FURTHER INFORMATION CONTACT).

ADDRESSES: The Meeting: The meeting will be held at the following address: J.W. Marriott Hotel, 1331 Pennsylvania Avenue, NW., Washington, DC, 20004, United States, telephone: 1 (202) 393-2000, fax: 1 (202) 626-6991.

Web site: You may access up-to-date information on this meeting at http:\\www.cms.hhs.gov\advisorycommittees\.

FOR FURTHER INFORMATION CONTACT: Nancy Barnes, Executive Secretary, (202) 205-9164.

SUPPLEMENTARY INFORMATION: On May 24, 2005, we published a notice (70 FR 29765) announcing the Medicaid Commission and requesting nominations for individuals to serve on the Medicaid Commission. This notice announces a public meeting of the Medicaid Commission.

Topics of the Meeting: The Commission will discuss options to achieve $10 billion in scorable Medicaid savings over 5 years while at the same time make progress toward meaningful longer-term program changes to better serve beneficiaries. The Commission may discuss the need to divide into sub-groups for the purpose of focusing on particular issues within this broad subject, including a discussion of which members would serve on which sub-group.

Procedure and Agenda: This meeting is open to the public. There will be a public comment period at the meeting. The Commission may limit the number and duration of oral presentations to the time available. We will request that you declare at the meeting whether or not you have any financial involvement related to any services being discussed.

After the public and CMS presentations, the Commission will deliberate openly on the topic. Interested persons may observe the deliberations, but the Commission will not hear further comments during this time except at the request of the Chairperson. The Commission will also allow an open public session for any attendee to address issues specific to the topic.

Authority: 5 U.S.C. App. 2, section 10(a)(1) and (a)(2).

Dated: August 2, 2005.
Mark B. McClellan,
Administrator, Centers for Medicare & Medicaid Services.

[FR Doc. 05-15522 Filed 8-2-05; 1:08 pm]

BILLING CODE 4120-01-P